DEPARTMENT OF DEFENSE

GENERAL SERVICES ADMINISTRATION

NATIONAL AERONAUTICS AND SPACE ADMINISTRATION

[OMB Control No. 9000-0107; Docket No. 2022-0053; Sequence No. 8]

Submission for OMB Review; Federal Acquisition Regulation Part 23 Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding Federal Acquisition Regulation (FAR) part 23 requirements.

DATES: Submit comments on or before June 1, 2022.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0107, Federal Acquisition Regulation Part 23 Requirements. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Jennifer Hawes, Procurement Analyst, at telephone 202-969-7386, or jennifer.hawes@gsa.gov.

SUPPLEMENTARY INFORMATION:

A. OMB Control Number, Title, and Any Associated Form(s)

OMB control number 9000-0107, Federal Acquisition Regulation Part 23 Requirements.

B. Need and Uses

This clearance covers the information that offerors and contractors must submit to comply with the following FAR Part 23 requirements:

• FAR 52.223-2, Affirmative Procurement of Biobased Products Under Service and Construction Contracts. This clause requires the contractor to report annually the product types and dollar value of any United States Department of Agriculture-designated biobased products purchased by the Contractor during the previous Government fiscal year. The Government uses this information to assess compliance, and measure progress, in carrying out the preference for USDA-designated biobased products.

• FAR 52.223-5, Pollution Prevention and Right-to-Know Information. This clause requires a contractor that is performing at a federal facility to provide all information needed by the federal facility to comply with Emergency Planning and Community Right-to-Know Act of 1986 (EPCRA) (42 U.S.C. 11001-11050) and the Pollution Prevention Act of 1990 (42 U.S.C.13101-13109). Contractors report information related to emergency planning and hazardous chemicals reporting, toxic chemical release, its environmental management system (EMS), and a facility compliance audit or EMS audit. Government facility managers use this information to ensure the facility is able to comply with the following statutory or other requirements: Prepare the annual inventory of hazardous chemicals and submit safety data sheets on hazardous chemicals used or stored in the facility to their State Emergency Response Commission (SERC), Local Emergency Planning Committee (LEPC), and local fire department; report toxic chemical release information to the Environmental Protection Agency (EPA) Toxic Release Inventory Program; implement an EMS and conduct EMS self-assessments; undergo a facility compliance audit.

• FAR 52.223-6, Drug-Free Workplace. This clause requires a contractor to require its employees to notify it of any criminal drug statute conviction for a violation occurring in the workplace no later than five days after such conviction. The contractor is further required to notify the contracting officer in writing within ten days after receiving notice of an employee conviction. The Government uses this information to ensure contractor compliance with the statutory requirements to maintain a drug-free workplace. The information is also used by the contracting officer to understand any impacts on contract performance.

• FAR 52.223-7, Notice of Radioactive Material. This clause requires the contractor to notify the contracting officer or a designee in writing prior to the delivery of, or prior to completion of any servicing required by the contract of, items containing certain radioactive material. The notice shall specify the part or parts of the items which contain radioactive materials, the name and activity of the isotope, the manufacturer of the materials, and any other information known to the contractor which will put users of the items on notice as to the hazards involved. If there has been no change affecting the quantity of activity, or the characteristics and composition of the radioactive material from deliveries under the contract or prior contracts, then the contractor may request in writing that the contracting officer or designee waive this notice requirement. The Government uses this information to ensures that required licenses are obtained and appropriate personnel are provided adequate notification to institute any necessary safety and health precautions in handling the items with radioactive materials.

• FAR 52.223-9, Estimate of Percentage of Recovered Material Content for EPA-Designated Items. This clause requires the contractor, upon completion of the contract, to submit to the Government an estimate of the percentage of the total recovered material content for EPA-designated item(s) delivered and/or used in contract performance, including, if applicable, the percentage of post-consumer material content. For contracts where the estimates can be verified, the contractor shall instead provide the certification required by the Resource Conservation and Recovery Act of 1976 (42 U.S.C. 6962(i)(2)(C)) that the percentage of recovered material content for EPA-designated items met the requirements of the contract. The contracting officer uses this information to verify contractor compliance with contract requirements regarding the use of recovered materials. Additionally, agencies will use the information in the annual review and monitoring of the effectiveness of their affirmative procurement programs.

• FAR 52.223-11, Ozone-Depleting Substances and High Global Warming Potential Hydrofluorocarbons. This clause requires the contractor to report annually and at the end of contract performance the amount in pounds of any hydrofluorocarbons (or refrigerant blends containing hydrofluorocarbons) added or taken out of any equipment or appliances to be delivered under the contract. The reporting requirement applies to equipment that normally each contain 50 or more pounds of hydrofluorocarbons or refrigerant blends containing hydrofluorocarbons. The Government gathers this information to identify the amount of ozone-depleting substances and High Global Warming Potential Hydrofluorocarbons that are contained in certain equipment purchased by the Government.

• FAR 52.223-12, Maintenance, Service, Repair, or Disposal of Refrigeration Equipment and Air Conditioners. This clause requires the contractor to report annually and at the end of contract performance the amount in pounds of any hydrofluorocarbons (or refrigerant blends containing hydrofluorocarbons) added or taken out of refrigeration or air conditioning equipment to be maintained, serviced, repaired, or disposed of under the contract. The reporting requirement applies to equipment that normally each contain 50 or more pounds of hydrofluorocarbons or refrigerant blends containing hydrofluorocarbons. The Government gathers this information to identify the amount of ozone-depleting substances and High Global Warming Potential Hydrofluorocarbons are contained in certain equipment maintained by the Government.

• FAR 52.223-22, Public Disclosure of Greenhouse Gas Emissions and Reduction Goals—Representation. This provision requires offerors that received $7.5 million or more in total contract awards during the previous Federal fiscal year to represent whether it publicly discloses (itself or through its immediate or highest-level owner) its greenhouse gas emissions and a quantitative greenhouse gas reduction goal. If the offeror publicly discloses such information, the offeror is required to provide the website(s) where the information is made publicly available. The representation is voluntary for offerors below the threshold. The Government uses this information to assess supplier greenhouse gas management practices and to assist agencies in developing strategies to engage with contractors to reduce supply chain emissions.

C. Annual Burden

Respondents: 39,497.

Total Annual Responses: 165,570.

Total Burden Hours: 735,631.

D. Public Comment

A 60-day notice was published in the Federal Register at 87 FR 10214, on February 23, 2022. No comments were received.

Obtaining Copies: Requesters may obtain a copy of the information collection documents from the GSA Regulatory Secretariat Division, by calling 202-501-4755 or emailing GSARegSec@gsa.gov. Please cite OMB Control No. 9000-0107, Federal Acquisition Regulation Part 23 Requirements.

Janet Fry,
Director, Federal Acquisition Policy Division, Office of Governmentwide Acquisition Policy, Office of Acquisition Policy, Office of Governmentwide Policy.

[FR Doc. 2022-09381 Filed 4-29-22; 8:45 am]

BILLING CODE 6820-EP-P